DEPARTMENT OF ENERGY

Federal Energy Regulatory Commission

[Docket No. RP07-139-001]

Algonquin Gas Transmission, LLC; Notice of Compliance Filing and Request To Lift Suspension and Place Tariff Sheets Into Effect Subject to Condition

March 26, 2007.

Take notice that on March 9, 2007, Algonquin Gas Transmission, LLC, (Algonquin) tendered for filing its response in compliance with the Commission's directive in its February 16, 2007 order issued in this proceeding, including proposed tariff revisions reflected on pro forma tariff sheets attached to the filing. Algonquin also requests that the Commission (i) lift the suspension of the tariff sheets in this proceeding; and (ii) allow Algonquin to place the accepted tariff sheets into effect on or before April 1, 2007, conditioned on Algonquin filing revised sheets, to the extent necessary, within 10 days of a Commission order.

Any person desiring to protest this filing must file in accordance with Rule 211 of the Commission's Rules of Practice and Procedure (18 CFR 385.211). Protests to this filing will be considered by the Commission in determining the appropriate action to be taken, but will not serve to make protestants parties to the proceeding. Such protests must be filed on or before the date as indicated below. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on April 3, 2007.

Philis J. Posey,
Acting Secretary.

[FR Doc. E7-5944 Filed 3-30-07; 8:45 am]

BILLING CODE 6717-01-P